DEPARTMENT OF THE TREASURY

Submission for OMB Review; Comment Request

May 4, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 11, 2007 to be assured of consideration.

Internal Revenue Service (IRS)

OMB Number: 1545-1836.

Type of Review: Extension.

Title: Support Schedule for Advance Ruling Period.

Form: 8734.

Description: Form 8734 is used by charities to furnish financial information that Exempt Organization Determinations of IRS can use to classify a charity as a public charity.

Respondents: Non-profit institutions.

Estimated Total Burden Hours: 549,120 hours.

OMB Number: 1545-1877.

Type of Review: Extension.

Title: Revenue Procedure 2004-18, Average Area Purchase Price Safe Harbors and Nationwide Purchase Prices under section 143.

Description: Revenue Procedure 2004-18 provides issuers of qualified mortgage bonds, as defined in section 143(a) of the Internal Revenue Code, and issuers of mortgage credit certificates, as defined in section 25(c), with (1) nationwide average purchase prices for residences located in the Untied States, and (2) average area purchase price safe harbors for residences located in statistical areas in each state, the District of Columbia, Puerto Rico, the Northern Mariana Islands, American Samoa, the Virgin Islands, and Guam.

Respondents: State, local, and tribal governments.

Estimated Total Burden Hours: 15 hours.

OMB Number: 1545-2049.

Type of Review: Extension.

Title: Notice 2006-107—Diversification Requirements for Qualified Defined Contribution Plans Holding Publicly Traded Employer Securities.

Description: This notice contains two model forms that may be used by employers to notify plan participants of their diversification rights under sections 901 and 507 of the Pension Protection Act of 2006.

Respondents: Businesses or other for-profit institutions.

Estimated Total Burden Hours: 7,725 hours.

OMB Number: 1545-2041.

Type of Review: Extension.

Title: Expenses Paid by Certain Whaling Captains in Support of Native Alaskan Subsistence Whaling.

Description: This document provides guidelines under section 170(n) for substantiating certain expenses of carrying out sanctioned whaling activities.

Respondents: Individuals and households.

Estimated Total Burden Hours: 48 hours.

OMB Number: 1545-0134.

Type of Review: Revision.

Title: Application to Adopt, Change, or Retain a Tax Year.

Form: 1128.

Description: Form 1128 is needed in order to process taxpayers' request to change their tax year. All information requested is used to determine whether the application should be approved. Respondents are taxable and nontaxable entities including individuals, partnerships, corporations, estates, tax-exempt organizations and cooperatives.

Respondents: Businesses and other for-profit institutions.

Estimated Total Burden Hours: 232,066 hours.

OMB Number: 1545-1599.

Type of Review: Extension.

Title: REG-208299-90 (NPRM) Allocation and Sourcing of Income and Deductions Among Taxpayers Engaged in a Global Dealing Operation.

Description: The information requested in sections 1.475(g)-2(b), 1.482-8(b)(3), (c)(3), (e)(5), (e)(6), (d)(3), and 1.863-3(h) is necessary for Service to determine whether the taxpayer has entered into controlled transactions at an arm's length price.

Respondents: Businesses and other for-profit institutions.

Estimated Total Burden Hours: 20,000 hours.

Clearance Officer: Glenn P. Kirkland, Internal Revenue Service, Room 6516, 1111 Constitution Avenue, NW., Washington, DC 20224, (202) 622-3428.

OMB Reviewer: Alexander T. Hunt, Office of Management and Budget, Room 10235, New Executive Office Building, Washington, DC 20503, (202) 395-7316.

Robert Dahl,
Treasury PRA Clearance Officer.

[FR Doc. E7-9032 Filed 5-9-07; 8:45 am]

BILLING CODE 4830-01-P